NATIONAL AERONAUTICS AND SPACE ADMINISTRATION

[NOTICE: (20-053)]

Name of Information Collection: COVID 19 Census of NASA Grantees

AGENCY: National Aeronautics and Space Administration (NASA).

ACTION: Notice of information collection—Renewal with change of an Existing Information Collection.

SUMMARY: The National Aeronautics and Space Administration, as part of its continuing effort to reduce paperwork and respondent burden, invites the general public and other Federal agencies to take this opportunity to comment on proposed and/or continuing information collections.

DATES: Comments are due by August 24, 2020.

ADDRESSES: All comments should be addressed to Claire Little, National Aeronautics and Space Administration, 300 E Street SW, Washington, DC 20546-0001 or call 202-358-2375.

FOR FURTHER INFORMATION CONTACT: Requests for additional information or copies of the information collection instrument(s) and instructions should be directed to R. Travis Kantz, NASA Clearance Officer, NASA Headquarters, 300 E Street SW, JF0000, Washington, DC 20546; 281-792-7885 or email R.Travis.Kantz@nasa.gov.

SUPPLEMENTARY INFORMATION:

I. Abstract

NASA is requesting an extension with change to this existing collection in order to continue to gather information consistent with OMB and NASA COVID guidance. This data will help inform NASA about the status and ongoing implementation issues surrounding COVID mitigation for NASA grantees and will improve the quality and responsiveness of NASA in responding to grantee issues which impact scientific research funded by NASA.

This information may be disclosed as necessary to NASA personnel, contractors, and partners to administer NASA Education programs. It also may be disclosed to NASA administrators and managers, Office of Management and Budget (OMB) officials, and members of Congress for the purposes of accountability and tracking of program and project efficiency and effectiveness.

II. Methods of Collection

Interview.

III. Data

Title: COVID 19 Census of NASA Grantees.

OMB Number: 2700-0177.

Type of review: Renewal with Change.

Affected Public: Educational institutions from k-12, universities, community and tribal colleges, museums.

Estimated Annual Number of Activities: 12.

Estimated Number of Respondents per Activity: 156.

Annual Responses: 12.

Estimated Time per Response: 15 minutes.

Estimated Total Annual Burden Hours: 22464.

Estimated Total Annual Cost: $10,953,446.

IV. Request for Comments

Comments are invited on: (1) Whether the proposed collection of information is necessary for the proper performance of the functions of NASA, including whether the information collected has practical utility; (2) the accuracy of NASA's estimate of the burden (including hours and cost) of the proposed collection of information; (3) ways to enhance the quality, utility, and clarity of the information to be collected; and (4) ways to minimize the burden of the collection of information on respondents, including automated collection techniques or the use of other forms of information technology.

Comments submitted in response to this notice will be summarized and included in the request for OMB approval of this information collection. They will also become a matter of public record.

Roger Kantz,
NASA PRA Clearance Officer.

[FR Doc. 2020-13538 Filed 6-23-20; 8:45 am]

BILLING CODE 7510-13-P